DEPARTMENT OF JUSTICE

Notice of Lodging of Proposed Consent Decree Under the Clean Water Act

On September 9, 2013, the Department of Justice lodged a proposed consent decree with the United States District Court for the District of South Carolina in the lawsuit entitled United States and State of South Carolina v. City of Columbia, Civil Action No. 3:13-2429-TLW.

The consent decree resolves allegations by the United States Environmental Protection Agency and the South Carolina Department of Health and Environmental Control against the City of Columbia (“Columbia”), in a complaint filed together with the consent decree, of violations of Sections 301 and 402 of the Clean Water Act, 33 U.S.C. 1311 and 1342, and Sections 48-1-50 and 48-1-90(A)(1) of the South Carolina Pollution Control Act, at Columbia's sanitary sewer system and wastewater treatment plant.

Under this settlement between the United States, the State, and Columbia, Columbia is required to implement programs for sewer management, operation and maintenance, including: a sewer overflow response plan, a contingency emergency response plan, a staff training program, an information management system, a capacity assurance program to address insufficient capacity areas during peak flow times, a sewer mapping program, a fats, oils, and grease management program, a transmission system operation and maintenance program, a gravity sewer system operation and maintenance program, and a financial analysis program to plan for sewer expenditures and upgrades.

Columbia will also complete several capital improvement projects already underway and will implement a comprehensive sewer assessment program to analyze its sanitary sewer system infrastructure and prioritize infrastructure projects. It will then undertake infrastructure rehabilitation, along with developing a hydraulic model of the system to plan for future needs.

The consent decree also provides for the payment of a civil penalty of $476,400, to be divided evenly between the United States and the State. Additionally, Columbia will spend $1.0 million on a Supplemental Environmental Project (“SEP”) to restore segments of three streams within the sewer system's service area: the lower reach of Rocky Branch; a segment of Smith Branch; and a segment of Gills Creek.

The publication of this notice opens a period for public comment on the consent decree. Comments should be addressed to the Assistant Attorney General, Environment and Natural Resources Division, and should refer to United States v. City of Columbia, D.J. Ref. No. 90-5-1-1-09954. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, D.C. 20044-7611

During the public comment period, the consent decree may be examined and downloaded at this Department of Justice Web site: http://www.usdoj.gov/enrd/Consent_Decrees.html. We will provide a paper copy of the consent decree upon written request and payment of reproduction costs. Please mail your request and payment to: Consent Decree Library, U.S. DOJ—ENRD, P.O. Box 7611, Washington, DC 20044-7611.

Please enclose a check or money order for $26.00 (25 cents per page reproduction cost) for the consent decree alone or $56.25 for the consent decree and appendixes, payable to the U.S. Treasury.

Henry Friedman,
Assistant Chief, Environmental Enforcement Section, Environment and Natural Resources Division.

[FR Doc. 2013-22589 Filed 9-16-13; 8:45 am]

BILLING CODE 4410-15-P